DEPARTMENT OF JUSTICE

Notice of Lodging of Consent Decree Under the Clean Air Act

Under 28 CFR 50.7, notice is hereby given that on July 20, 2009 a Consent Decree in United States v. Tyler Holding Company, Inc., and Delek Refining, Ltd., Civil Action No. 6:09cv319 was lodged with the United States District Court for the Eastern District of Texas, Tyler Division.

In a complaint that was filed simultaneously with the Consent Decree, the United States sought injunctive relief and penalties against Tyler Holding Company, Inc., f/k/a La Gloria Oil and Gas Co. (“Tyler Holding”), and Delek Refining, Ltd. (“Delek”), pursuant to section 113(b) of the Clean Air Act, 42 U.S.C. 7413(b), for alleged Clean Air Act violations at a petroleum refinery in Tyler, Texas.

Under the settlement, Delek will implement air pollution control practices to reduce emissions of sulfur dioxide and volatile organic compounds (VOCs) from the refinery. Delek will adopt a refinery-wide enhanced flaring protocol to investigate the root cause of flaring incidents. Delek will also undertake an enhanced fugitive emission control program to minimize emissions of VOCs. In addition, Tyler Holding will pay a $624,000 civil penalty for settlement of the claims in the complaint.

The Department of Justice will receive comments relating to the Consent Decree for a period of thirty (30) days from the date of this publication. Comments should be addressed to the Assistant Attorney General, Environment and Natural Resources Division, P.O. Box 7611, U.S. Department of Justice, Washington, DC 20044-7611, or submitted via e-mail to pubcomment-ees.enrd@usdoj.gov, and should refer to United States v. Tyler Holding Company, Inc., and Delek Refining, Ltd., D.J. Ref. No. 90-5-2-1-08279.

The Consent Decree may be examined at the Offices of the U.S. Environmental Protection Agency, Region 6, 1445 Ross Avenue, Dallas, Texas. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $18.50 (25 cents per page reproduction cost) payable to the U.S. Treasury.

Maureen M. Katz,
Assistant Section Chief, Environmental Enforcement Section, Environment and Natural Resources Division.

[FR Doc. E9-17622 Filed 7-23-09; 8:45 am]

BILLING CODE 4410-15-P